FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011075-067.

Title: Central America Discussion Agreement.

Parties: APL Co. PTE Ltd.; A.P. Moller-Maersk A/S; Crowley Liner Services, Inc.; Dole Ocean Cargo Express; Great White Fleet; King Ocean Services Limited; Trinity Shipping Line, S.A.; and Seaboard Marine, Ltd.

Filing Party: Wayne R. Rohde, Esq.; Sher & Blackwell LLP; 1850 M Street, NW.; Washington, DC 20036.

Synopsis: The amendment deletes Lykes Lines Limited, LLC as a party to the agreement effective April 5, 2005, increases the financial guarantees required of the members, adds a new section dealing with responsibility for civil penalties, and makes other technical changes.

Agreement No.: 011909.

Title: Maersk Sealand/Great Western Space Charter Agreement.

Parties: A.P. Moller-Maersk A/S and Great Western Steamship Company.

Filing Party: Wayne R. Rohde, Esq.; Sher & Blackwell LLP; 1850 M Street, NW.; Washington, DC 20036.

Synopsis: The agreement authorizes Maersk Sealand to charter space to Great Western on an “as needed, as available” basis in the trade between ports on the Pacific Coast of the United States and ports in China.

Dated: March 25, 2005.
By order of the Federal Maritime Commission.
Bryant L. VanBrakle,
Secretary.

[FR Doc. 05-6276 Filed 3-29-05; 8:45 am]

BILLING CODE 6730-01-P